DEPARTMENT OF ENERGY

Federal Energy Regulatory Commission

[Docket No. EC03-130-000, et al.]

Black Hills Corporation, et al.; Electric Rate and Corporate Filings

October 15, 2003.

The following filings have been made with the Commission. The filings are listed in ascending order within each docket classification.

1. Black Hills Corporation

[Docket No. EC03-130-000]

Take notice that on October 9, 2003, Black Hills Corporation (Black Hills) filed an amendment to its application filed on August 22, 2003, requesting authorization to implement a plan of internal corporate restructuring.

Comment Date: October 21, 2003.

2. John Hancock Life Insurance Company, Pitney Bowes Credit Corporation, U.S. Energy Corporation, Decker Energy Craven GP, LLC, Decker Energy Craven LP, LLC

[Docket No. EC04-5-000]

Take notice that on October 9, 2003, John Hancock Life Insurance Company, Pitney Bowes Credit Corporation, U.S. Energy Corporation, Decker Energy Craven GP, LLC, and Decker Energy Craven LP, LLC (Applicants) filed with the Federal Energy Regulatory Commission an application pursuant to Section 203 of the Federal Power Act for authorization of a disposition of jurisdictional facilities whereby John Hancock Life Insurance Company, Pitney Bowes Credit Corporation, and U.S. Energy Corporation will divest, and Decker Energy Craven GP, LLC, and Decker Energy Craven LP, LLC will acquire, partnership interests in Craven County Wood Energy Limited Partnership, which owns a 45 megawatt (net) wood-burning qualifying small power production facility located in New Bern, North Carolina. The Applicants have requested privileged treatment for certain documents submitted with the filing.

Comment Date: October 30, 2003.

3. Idaho Power Company

[Docket No. ER97-1481-003]

Take notice that on October 9, 2003, Idaho Power Company filed with the Federal Energy Regulatory Commission an updated market power analysis.

Comment Date: October 30, 2003.

4. Mirant Americas Energy Marketing, LP

[Docket No. ER01-1265-002]

Mirant California, LLC

[Docket No. ER01-1267-003]

Mirant Delta, LLC

[Docket No. ER01-1270-003]

Mirant Potrero, LLC

[Docket No. ER01-1278-003]

Mirant New England, LLC

[Docket No. ER01-1274-003]

Mirant Canal, LLC

[Docket No. ER01-1268-003]

Mirant Kendall, LLC

[Docket No. ER01-1271-003]

Mirant Bowline, LLC

[Docket No. ER01-1266-002]

Mirant Lovett, LLC

[Docket No. ER01-1272-002]

Mirant NY-Gen, LLC

[Docket No. ER01-1275-002]

Mirant Chalk Point, LLC

[Docket No. ER01-1269-002]

Mirant Mid-Atlantic, LLC

[Docket No. ER01-1273-002]

Mirant Peaker, LLC

[Docket No. ER01-1276-002]

Mirant Potomac River, LLC

[Docket No. ER01-1277-002]

Mirant Zeeland, LLC

[Docket No. ER01-1263-002]

West Georgia Generating Company, LLC

[Docket No. ER02-1052-001]

Mirant Sugar Creek, LLC

[Docket No. ER02-900-001]

Shady Hills Power Company, LLC

[Docket No. ER02-537-002]

Wrighstville Power Facility, LLC

[Docket No. ER02-1028-001]

Mirant Energy Trading, LLC

[Docket No. ER02-1213-001]

Mirant Oregon, LLC

[Docket No. ER02-1331-002]

Mirant Las Vegas, LLC

[Docket No. ER03-160-001]

Take notice that on October 10, 2003, the above-referenced entities, collectively the “Mirant Entities” tendered for filing a triennial market-power analysis in compliance with the Commission's orders granting them authority to make sales at market-based rates.

Comment Date: October 31, 2003.

5. Condon Wind Power, LLC

[Docket No. ER02-305-001]

Take notice that on October 10, 2003, Condon Wind Power, LLC (Condon Wind Power) filed with the Federal Energy Regulatory Commission a notice of change in status in connection with the transfer of certain non-managing membership interests in Condon Wind Power to GS Wind Power I, LLC, a wholly-owned subsidiary of The Goldman Sachs Group, Inc.

Comment Date: October 31, 2003.

6. Virginia Electric and Power Company

[Docket No. ER03-743-003]

Take notice that on October 10, 2003, Virginia Electric and Power Company, doing business as Dominion Virginia Power, tendered for filing a revised Generator Interconnection and Operating Agreement (Revised Interconnection Agreement) between Dominion Virginia Power and CPV Cunningham Creek LLC (CPV) in compliance with the Commission's June 10, 2003 and September 10, 2003 Orders. Virginia Electric and Power Company, 104 FERC ¶ 61,249; Virginia Electric and Power Company, 103 FERC ¶ 61,318.

Dominion Virginia Power respectfully requests that the Commission accept the Revised Interconnection Agreement allowing it to become effective on April 15, 2003, the effective date granted by the Commission in its June 10, 2003 Order.

Dominion Virginia Power states that copies of the filing were served upon CPV and the Virginia State Corporation Commission.

Comment Date: October 31, 2003.

7. Southern California Edison Company

[Docket No. ER03-1094-001]

Take notice that on October 10, 2003, Southern California Edison Company (SCE) tendered for filing its Response to the Commission's Letter Order issued September 22, 2003. SCE requests privileged treatment of certain data in their filing.

SCE states that copies of this filing were served upon all parties designated on the official service list compiled by the Secretary in this proceeding.

Comment Date: October 31, 2003.

8. West Penn Power Company dba Allegheny Power

[Docket No. ER03-1232-000]

Take notice that on October 10, 2003, West Penn Power Company, d/a/Allegheny Power, filed a request to withdraw Third Revised Service Agreement No. 6, First Revised Volume No. 1, an agreement with PPL Electric Utilities Corporation, formerly Pennsylvania Power & Light Company filed on August 21, 2003. Allegheny Power states that a copy of this filing has been served upon the customer.

Comment Date: October 31, 2003.

9. Geothermal Properties, Inc.

[Docket No. ER03-1314-001]

Take notice that on October 10, 2003, Geothermal Properties, Inc. submitted an amendment to the Notice of Cancellation of Market-Based Rate Authority under FERC Electric Tariff, Original Volume No.1, filed on September 9, 2003. Geothermal Properties, Inc. states that it amends the filing by including First Revised Sheet No. 1 to FERC Electric Tariff, Original Volume No. 1.

Comment Date: October 31, 2003.

10. Midwest Independent Transmission System Operator, Inc.

[Docket No. ER04-32-000]

Take notice that on October 9, 2003, Midwest Independent Transmission System Operator, Inc. (Midwest ISO) pursuant to Section 205 of the Federal Power Act and Section 35.12 of the Commission's regulations, 18 CFR 35.12, submitted for filing an Interconnection and Operating Agreement among Anita Municipal Utilities, the Midwest ISO, and Interstate Power and Light Company, a wholly-owned subsidiary of Alliant Energy.

Midwest ISO states that a copy of this filing was served on Anita Municipal Utilities and Interstate Power and Light Company.

Comment Date: October 30, 2003.

11. Southwest Power Pool, Inc.

[Docket No. ER04-34-000]

Take notice that on October 9, 2003, Southwest Power Pool, Inc. (SPP), tendered for filing an executed Interconnection Agreement (IA) between SPP,FPL Energy Oklahoma Wind, LLC and OG&E Energy Corp under the SPP Open Access Transmission Tariff. SPP requests an effective date of September 10, 2003 for this IA.

SPP states that a copy of the filing was served on representatives of Blue Canyon and WFEC.

Comment Date: October 30, 2003.

12. Entergy Services, Inc.,

[Docket No. ER04-35-000]

Take notice that on October 9, 2003, Entergy Services, Inc., on behalf of the Entergy Operating Companies, Entergy Arkansas, Inc., Entergy Gulf States, Inc., Entergy Louisiana, Inc., Entergy Mississippi, Inc., and Entergy New Orleans, Inc. filed revisions to its Open Access Transmission Tariff to implement retail open access in the Entergy Settlement Area in Texas.

Comment Date: October 30, 2003.

13. Duke Energy Corporation

[Docket No. ER04-36-000]

Take notice that on October 10, 2003, Duke Energy Corporation, on behalf of Duke Electric Transmission, (collectively, Duke) tendered for filing a revised Service Agreement for Network Integration Transmission Service (NITSA) between Duke and the City of Seneca, South Carolina. Duke seeks an effective date for the revised NITSA of October 1, 2003.

Comment Date: October 31, 2003.

14. PJM Interconnection L.L.C.

[Docket No. ER04-37-000]

Take notice that on October 10, 2003, PJM Interconnection, L.L.C. (PJM) tendered for filing revisions to Schedule 2 of the PJM Open Access Transmission Tariff to reflect new or amended revenue requirements for Calpine Energy Services, L.P.; Duke Energy Fayette, LLC; Liberty Electric Power, LLC; and Reliant Energy Hunterstown, LLC, for providing cost-based Reactive Support and Voltage Control from Generation Sources Service in the PJM region.

PJM states that copies have been served on all PJM members and each state electric utility regulatory commission in the PJM region.

Comment Date: October 31, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E3-00294 Filed 11-18-03; 8:45 am]

BILLING CODE 6717-01-P